DEPARTMENT OF ENERGY

Federal Energy Regulatory Commission

Combined Notice of Filings

Take notice that the Commission has received the following Natural Gas Pipeline Rate and Refund Report filings:

Filings Instituting Proceedings

Docket Numbers: PR26-24-000.

Applicants: Bridgeline Holdings, L.P.

Description: 284.123(g) Rate Filing: Bridgeline Cost of Service Rate Filing to be effective 1/2/2026.

Filed Date: 1/2/26.

Accession Number: 20260102-5233.

Comment Date: 5 p.m. ET 1/23/26.

284.123(g) Protest: 5 p.m. ET 3/3/26.

Docket Numbers: RP26-350-000.

Applicants: Gulf South Pipeline Company, LLC.

Description: 4(d) Rate Filing: Cap Rel Neg Rate Agmt (Osaka 46428 to Sequent 60134) to be effective 1/1/2026.

Filed Date: 1/2/26.

Accession Number: 20260102-5236.

Comment Date: 5 p.m. ET 1/14/26.

Docket Numbers: RP26-351-000.

Applicants: Rover Pipeline LLC.

Description: 4(d) Rate Filing: Summary of Negotiated Rate Capacity Release Agreements 1-5-2026 to be effective 1/1/2026.

Filed Date: 1/5/26.

Accession Number: 20260105-5071.

Comment Date: 5 p.m. ET 1/20/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: January 5, 2026.
Carlos D. Clay,
Deputy Secretary.

[FR Doc. 2026-00143 Filed 1-7-26; 8:45 am]

BILLING CODE 6717-01-P